DEPARTMENT OF COMMERCE

National Oceanic and Atmospheric Administration

[I.D. 022602F]

Caribbean Fishery Management Council; Public Meetings

AGENCY: National Marine Fisheries Service (NMFS), National Oceanic and Atmospheric Administration (NOAA), Commerce.

ACTION: Notice of public meetings.

SUMMARY: The Caribbean Fishery Management Council (Council) will hold meetings.

DATES: The meetings will be held on March 26-27, 2002. The Council will convene on Tuesday, March 26, 2002, from 9 a.m. to 6:30 p.m., and on Wednesday, March 27, 2002, from 9 a.m. to 5 p.m., approximately. A public comment period for Dolphin/Wahoo FMP will be open from 1:30 to 2:30 p.m., on March 26, 2002, to allow the general public and interested persons to provide their comments on the Dolphin/Wahoo Fishery Management Plan (FMP)

ADDRESSES: The meetings will be held at the Holiday Inn of Ponce and Tropical Casino, 3315 Ponce By Pass, Ponce, Puerto Rico 00731.

FOR FURTHER INFORMATION CONTACT: Caribbean Fishery Management Council, 268 Muñoz Rivera Avenue, Suite 1108, San Juan, Puerto Rico 00918-2577, telephone (787) 766-5926.

SUPPLEMENTARY INFORMATION: The Council will hold its 107th regular public meeting to discuss the items contained in the following agenda:

Call to Order

Adoption of Agenda

Consideration of 106th Council Meeting Verbatim Minutes

Executive Director’s Report

Mr. Gerson Martínez Letter

Special Accommodations

These meetings are physically accessible to people with disabilities. For more information or request for sign language interpretation and other auxiliary aids, please contact Mr. Miguel A. Rolón, Executive Director, Caribbean Fishery Management Council, 268 Muñoz Rivera Avenue, Suite 1108, San Juan, Puerto Rico, 00918-2577, telephone (787) 766-5926, at least five days prior to the meeting date.

Essential Fish Habitat (EFH)

New Regulations - Rickey Reubsamen

NMFS Conservation Habitat Caribbean Office - L.M. Carrubba

EFH Draft Environmental Impact Statement (DEIS) - MRAG Americas, Inc.

National Ocean Service Benthic Maps of the U.S. Caribbean

Final Presentation

1:30 to 2:30 p.m. - Public Comment Period Dolphin/Wahoo FMP/DEIS

Discussion and Council Decision on Dolphin/Wahoo

Administrative Committee Meeting

Queen Conch FMP Schedule

Sustainable Fisheries Act Update

Fishery Agreements - Department of State

Enforcement

Vessel Monitoring System - F. Kyle

U.S. Coast Guard

Puerto Rico

U.S. Virgin Islands

NMFS

Reeffish FMP

Hyperbaric Chamber and Diving Accidents Report - J. Figueroa

Marine Recreational Fisheries Statistical Survey-Protected Resources Statistics - L.M. Yoshiura

Regulatory Amendment

Recommendations by Administrative Committee at its March 26, 2002 Meeting

Meetings Attended by Council Members and Staff

Other Business

Navassa Island Presentation - U.S. Fish and Wildlife, Department of Interior

Next Council Meeting

The meetings are open to the public, and will be conducted in English. However, simultaneous interpretation (Spanish-English) will be available during the Council meeting on March 26-27, 2002. Fishers and other interested persons are invited to attend and participate with oral or written statements regarding agenda issues.

Although non-emergency issues not contained in this agenda may come before this group for discussion, those issues may not be the subject of formal action during this meeting. Action will be restricted to those issues specifically listed in this notice and any issues arising after publication of this notice that require emergency action under section 305 (c) of the Magnuson-Stevens Fishery Conservation and Management Act, provided the public has been notified of the Council’s intent to take final action to address the emergency.

Dated: March 5, 2002.
Richard W. Surdi,
Acting Director, Office of Sustainable Fisheries, National Marine Fisheries Service.

[FR Doc. 02-5618 Filed 3-8-02; 8:45 am]

BILLING CODE 3510-22-S